DEPARTMENT OF ENERGY

Federal Energy Regulatory Commission

[Docket Nos. CP00-6-009 and RP03-173-001]

Gulfstream Natural Gas System, L.L.C.; Notice of Compliance Filing

May 7, 2003.

Take notice that on April 30, 2003, Gulfstream Natural Gas System, L.L.C. (Gulfstream) tendered for filing as part of its FERC Gas Tariff, Original Volume No. 1, the following tariff sheets, to be effective May 1, 2003:

First Revised Sheet No. 20

First Revised Sheet No. 106

Sub First Revised Sheet No. 128

Sub First Revised Sheet No. 130

Sub First Revised Sheet No. 131

Sub Second Revised Sheet No. 137

Sub First Revised Sheet No. 137A

First Revised Sheet No. 155

First Revised Sheet No. 159

First Revised Sheet No. 178

Gulfstream states that it is filing these tariff sheets to comply with the Commission's April 15, 2003, order in these dockets. Gulfstream states that these revisions primarily reflect changes to the tariff making firm Maximum Hourly Quantity rights applicable to both primary and secondary points and changes deleting charges for transportation involved in the netting and trading of imbalances on the system, as well as assorted minor changes and clarifications.

Gulfstream states that copies of its filing have been mailed to all affected customers of Gulfstream and interested state commissions, and all parties on the Commission's Official Service List in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 12, 2003.

Magalie R. Salas,
Secretary.

[FR Doc. 03-11929 Filed 5-12-03; 8:45 am]

BILLING CODE 6717-01-P